DEPARTMENT OF TRANSPORTATION

Coast Guard

[CGD08-00-023]

Proposed Monkey Island Bridge Project; Calcasieu Pass at Cameron, Cameron Parish, LA

AGENCY: Coast Guard, DOT.

ACTION: Notice of public hearing; request for comments

SUMMARY: The Coast Guard jointly with the State of Louisiana, Louisiana Department of Transportation and Development (LDOTD) will hold a public hearing to receive comments on an application by LDOTD for Coast Guard approval of location and plans for a proposed bridge. The proposed location of the bridge is across Calcasieu Pass, mile 2.2, on SR 1141 between Cameron and Monkey Island, Cameron Parish, Louisiana. The hearing will allow interested persons to present comments and information concerning the impact of the proposed bridge project on navigation and the human environment.

DATES: This hearing will be held on September 28, 2000, commencing at 6 p.m. Comments must be received by October 13, 2000. Requests to speak and requests for services must be received by September 21, 2000.

ADDRESSES: The hearing will be held at the Cameron Court House, 119 Smith Circle, Cameron, Louisiana 70631. Written comments may be submitted to, and will be available for examination between 6:30 a.m. and 3 p.m., Monday through Friday, except Federal holidays at the office of the Eighth Coast Guard District, Bridge Administration Branch, Commander (ob), 501 Magazine Street, New Orleans, Louisiana 70130-3396. Please submit all comments in an unbound format, no larger than 8 × 11 inches, suitable for copying and electronic filing. Persons wanting acknowledgement of receipt of comments should enclose a stamped, self-addressed postcard or envelope.

Requests to speak at the hearing may be submitted to Mr. David Frank at the phone number listed under FOR FURTHER INFORMATION CONTACT.

FOR FURTHER INFORMATION CONTACT: Mr. David Frank, Project Officer, Bridge Administration Branch, telephone (504) 589-2965.

SUPPLEMENTARY INFORMATION:

Background

The proposed project is to construct a new bridge to replace the existing ferry crossing from Cameron to Monkey Island. The bridge will be constructed on the same alignment as the ferry crossing. The proposed bridge will be a two-lane fixed bridge, approximately 30 feet (9.14 m) wide and 990 feet (301.75 m) long. The bridge would be constructed so as to allow for 14 feet (4.27 m) of vertical clearance above mean high water, elevation 1.5 feet (0.46 m) and a horizontal clearance of 80 feet (24.38 m). The bridge will be skewed to the channel at an angle of 60°. The distance between the piers is 110 feet (33.53 m), but the horizontal clearance perpendicular to the channel will be 80 feet. The center span of the bridge will be constructed as a removable steel girder span that can be removed in case of emergencies.

The proposed bridge will replace the existing costly ferry operation and provide a safer, more efficient transportation facility for motorists traveling between Cameron and Monkey Island. LDOTD's objective in providing roads and bridges on the state maintained highway system is to assure an unrestricted and safe flow of commerce via that system. Although the ferry is operating on a 24-hour schedule year-round, motorists are delayed by the ferry schedule. Replacing the ferry with a bridge will eliminate delays due to the ferry and severe weather conditions. This is important in evacuating residents on the island during storms or hurricanes.

Consideration of approval of the location and plans for the proposed vehicular bridge is the action precipitating the Coast Guard's involvement in this project. The Coast Guard, as lead Federal agency for the proposed project, has reviewed the applicant-prepared Environmental Assessment (EA). Based upon the EA, the Coast Guard has tentatively determined that the proposed action will not have a significant impact on the environment for purposes of the National Environmental Policy Act (NEPA). A Coast Guard Finding of No Significant Impact (FONSI) will be prepared as the final environmental document for the proposed project unless significant impacts are identified as a result of this public notification process to warrant the preparation of an Environmental Impact Statement (EIS).

Only two alternatives are currently being considered for this project. These alternatives are defined as the ‘build’ and ‘no-build’ alternatives.

Potential impacts addressed in the EA include economic, social and community, construction, wetland, fish and wildlife, navigation, water quality, floodplain, noise, air and cultural resources, hazardous waste, and secondary and cumulative impacts. Information concerning availability of the EA may be obtained from Mr. David Frank at the phone number listed under FOR FURTHER INFORMATION CONTACT.

Procedural

Individuals and representatives of organizations that wish to present testimony at the Hearing or who want to be placed on the project mailing list, may submit a request to Mr. David Frank at the telephone number listed under FOR FURTHER INFORMATION CONTACT. Requests to speak should be received no later than September 21, 2000 in order to ensure proper schedule of the hearing. Attendees at the hearing who wish to present testimony and have not previously made a request to do so, will follow those on the previously established list. Depending upon the number of scheduled statements, the Coast Guard may limit the amount of time required. Written statements and other exhibits in lieu of or in addition to oral statements at the Hearing may be submitted to Mr. David Frank at the address listed under ADDRESSES until September 21, 2000, in order to be included in the Public Hearing transcript.

Information on Services for Individuals With Disabilities

For information about facilities or services for individuals with disabilities or to request special assistance at the meetings, contact the Commander, Eighth Coast Guard District (obc). Please request these services from Mr. David Frank, at the phone number under FOR FURTHER INFORMATION CONTACT or in writing at the address listed under ADDRESSES. Any requests for an oral or sign language interpreter must be received by September 21, 2000.

Authority: 33 U.S.C. 513, 49 CFR 1.46.

Dated: August 23, 2000.
Paul J. Pluta,
Rear Admiral, U.S. Coast Guard, Commander, Eighth Coast Guard District.

[FR Doc. 00-22317 Filed 8-30-00; 8:45 am]

BILLING CODE 4910-15-P